NUCLEAR REGULATORY COMMISSION

[NRC-2016-0061]

In the Matter of All Operating Reactor Licensees

AGENCY: Nuclear Regulatory Commission.

ACTION: Revised director's decision under 10 CFR 2.206; issuance.

SUMMARY: The U.S. Nuclear Regulatory Commission (NRC) has issued a revised director's decision in response to a petition dated February 19, 2016, filed by Roy Mathew, Sheila Ray, Swagata Som, Gurcharan Singh Matharu, Tania Martinez Navedo, Thomas Koshy, and Kenneth Miller (Petitioners), requesting that the NRC take enforcement-related action with regard to all operating nuclear power plants. The petitioner's requests and the director's decision are included in the SUPPLEMENTARY INFORMATION section of this document.

DATES: The revised director's decision was issued on January 18, 2018.

ADDRESSES: Please refer to Docket ID NRC-2016-0061 when contacting the NRC about the availability of information regarding this document. You may obtain publicly-available information related to this document using any of the following methods:

• Federal Rulemaking website: Go to http://www.regulations.gov and search for Docket ID NRC-2016-0061. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Tanya Mensah, Office of Nuclear Reactor Regulation, U.S. Nuclear Regulatory Commission, Washington, DC 20555-0001; telephone: 301-415-3610, email: Tanya.Mensah@nrc.gov.

SUPPLEMENTARY INFORMATION: Notice is hereby given that the Director, Office of Nuclear Reactor Regulation, has issued a revised director's decision (ADAMS Accession No. ML18005A053) under section 2.206 of title 10 of the Code of Federal Regulations (10 CFR), on a petition filed by the Petitioners on February 19, 2016 (ADAMS Accession No. ML16050A223).

The Petitioners requested that the NRC take enforcement action against all operating nuclear power plants. Specifically, the Petitioners requested that the NRC either: (1) Issue orders to require immediate corrective actions including compensatory measures to address the operability of electric power systems in accordance with their plant technical specifications, and to implement plant modifications in accordance with current NRC regulatory requirements and staff guidance provided in the references within the 2.206 petition; or (2) issue orders to immediately shut down the nuclear power plants that are operating without addressing the significant design deficiency identified in NRC Bulletin 2012-01, “Design Vulnerability in Electric Power System,” dated July 27, 2012, (ADAMS Accession No. ML12074A115) since the licensees are not in compliance with their technical specifications (typically Section 3.8.1) related to onsite and offsite power systems.

On February 24, 2016, the NRC's petition manager acknowledged receipt of the petition and offered the Petitioners an opportunity to address the Petition Review Board (PRB). The Petitioners declined an opportunity to address the PRB on the basis that the petition already contained all of the relevant facts to support the PRB's review.

The NRC sent a copy of the proposed director's decision to the Petitioners and to the licensees for comment by letters dated September 18, 2017 (ADAMS Accession Nos. ML17156A197 and ML17156A214, respectively). The Petitioners and the licensees were provided the opportunity to provide comments on any part of the proposed director's decision that was considered to be erroneous or any issues in the petition that were not addressed. The Petitioners provided comments by letter dated October 11, 2017 (ADAMS Accession No. ML17291A040), and the Nuclear Energy Institute (NEI) provided comments, on behalf of licensees, by letter dated October 16, 2017 (ADAMS Accession No. ML17291A846). No new information was provided. To enhance the clarity of the director's decision, the NRC staff revised the description of the NRC's accident sequence precursor (ASP) program provided in Section D of the director's decision, to differentiate between condition and event assessments. The comments from the Petitioners and NEI, along with the NRC staff's responses to the comments, are included as an attachment to the director's decision. The attachment identifies any updates to the director's decision, as a result of comments received from the Petitioners and NEI.

On December 12, 2017, the NRC issued a final director's decision (ADAMS Accession No. ML17304A893). Subsequently, the NRC was informed of a minor error in the final director's decision. Specifically, Section D of the final director's decision refers to a December 2015 open phase condition event at Oconee and states, “Two separate transformers required for safe shutdown of the three operating Oconee nuclear units were identified with open phase conditions.” This statement is in error because only one Oconee transformer experienced an open phase condition. Although this error does not change the decision in the director's decision, the NRC revised it, as appropriate, for accuracy.

The Director, Office of Nuclear Reactor Regulation, has determined that the request(s) to issue orders to operating reactor licensees regarding an open phase condition be denied. The reasons for this decision are explained in the Director's Decision DD-17-04, pursuant to 10 CFR 2.206.

The NRC will file a copy of the director's decision with the Secretary of the Commission for the Commission's review in accordance with 10 CFR 2.206. As provided by this regulation, the director's decision will constitute the final action of the Commission 25 days after the date of the decision unless the Commission, on its own motion, institutes a review of the director's decision in that time.

Dated at Rockville, Maryland, this 23rd day of January, 2018.
For the Nuclear Regulatory Commission.
Tanya M. Mensah,
Senior Project Manager, ROP Oversight and Generic Communications Branch, Division of Inspection and Regional Support, Office of Nuclear Reactor Regulation.

[FR Doc. 2018-01514 Filed 1-26-18; 8:45 am]

BILLING CODE 7590-01-P